DEPARTMENT OF ENERGY

Federal Energy Regulatory Commission

Notice of Meeting; Sunshine Act

January 26, 2006.

The following notice of meeting is published pursuant to section 3(a) of the government in the Sunshine Act (Pub. L. No. 94-409), 5 U.S.C 552b:

Agency Holding Meeting: Federal Energy Regulatory Commission.

Date and Time: February 2, 2006, 10 a.m.

Place: Room 2C, 888 First Street NE., Washington DC 20426.

Status: Open.

Matters to be Considered: Agenda. *Note—Items listed on the agenda may be deleted without further notice.

FOR FURTHER INFORMATION CONTACT: Magalie R. Salas, Secretary. Telephone (202) 502-8400.

For a recorded listing item stricken from or added to the meeting, call (202) 502-8627.

This is a list of matters to be considered by the Commission. It does not include a listing of all papers relevant to the items on the agenda; however, all public documents may be examined in the Public Reference Room.

901st Meeting—Regular Meeting
[February 2, 2006, 10 a.m.]
Item No. | Docket No. | Company
Administrative Agenda
A-1 | AD02-1-000 | Agency Administrative Matters.
A-2 | AD02-7-000 | Customer Matters, Reliability, Security and Market Operations.
Markets, Tariffs, and Rates—Electric
E-1 | RM05-30-000 | Rules Concerning Certification of the Electric Reliability Organization; and Procedures for the Establishment, Approval, and Enforcement of Electric Reliability Standards.
E-2 | RM05-36-000 | Revised Regulations Governing Small Power Production and Cogeneration Facilities.
E-3 | RM06-8-000 | Long-Term Firm Transmission Rights in Organized Electricity Markets.
| AD05-7-000 | Long-Term Transmission Rights in Markets Operated by Regional Transmission Organizations and Independent System Operators.

Magalie R. Salas,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 06-907 Filed 1-26-06; 4:41 pm]

BILLING CODE 6717-01-P